DEPARTMENT OF THE TREASURY

Public Meeting of the Commission on Social Impact Partnerships

AGENCY: Department of the Treasury.

ACTION: Notice of meeting.

SUMMARY: The Commission on Social Impact Partnerships (Commission) will convene for a public meeting on August 21, on Zoom from 3:00 p.m. to 4:00 p.m. Eastern Time. The meeting will be open to the public.

DATES: The meeting will be held on August 21, 2024, from 3:00 p.m. to 4:00 p.m. Eastern Time.

ADDRESSES: The public can attend remotely via teleconference. Treasury expects to make the teleconference details available on the Social Impact Partnerships to Pay for Results Act (“SIPPRA”) website (treasury.gov/sippra). Members of the public who would like to attend the meeting may visit the SIPPRA website or send an email to William Girardo (william.girardo@treasury.gov) by 5:00 p.m. Eastern Time on Tuesday, August 20, 2024 containing each proposed attendee's email address and full name (first, middle, and last). Mr. Girardo will provide the teleconference details to each interested attendee via email. Requests for reasonable accommodations under Section 504 of the Rehabilitation Act should be directed to Marcia Small Bowman, Office of Civil Rights and Equal Employment Opportunity, Department of the Treasury, at 202-622-8177 or marcia.smallbowman@treasury.gov.

Submission of Written Statements: The public is invited to submit written statements to the Commission. Written statements should be sent by any one of the following methods:

Electronic Statements

Email: SIPPRA@treasury.gov, Attn: Matthew Cook, Docket ID No. 03282019.

Paper Statements

Send paper statements to SIPPRA Commission, Attn: Matthew Cook, Docket ID No. 03282019, U.S. Department of the Treasury, 1801 L St. NW, Washington, DC 20006. In general, Treasury will make all statements available in their original format, including any business or personal information provided such as names, addresses, email addresses, or telephone numbers, for public inspection and photocopying in Treasury's library located at Treasury Department Annex, 1500 Pennsylvania Avenue NW, Washington, DC 20220. The library is open on official business days between the hours of 10:00 a.m. and 4:30 p.m. You can make an appointment to inspect statements by calling (202) 622-0990. All statements received, including attachments and other supporting materials, are part of the public record and subject to public disclosure. You should only submit information that you wish to make publicly available.

Electronic Statements

Email: Matthew Cook, Designated Federal Officer, Office of Economic Policy, Department of the Treasury, SIPPRA@treasury.gov or matthew.cook@treasury.gov.

In general, Treasury will make all statements available in their original format, including any business or personal information provided such as names, addresses, email addresses, or telephone numbers, for public inspection and photocopying in Treasury's library located at Treasury Department Annex, 1500 Pennsylvania Avenue NW, Washington, DC 20220. The library is open on official business days between the hours of 10:00 a.m. and 4:30 p.m. You can make an appointment to inspect statements by calling (202) 622-0990. All statements received, including attachments and other supporting materials, are part of the public record and subject to public disclosure. You should only submit information that you wish to make publicly available.

FOR FURTHER INFORMATION CONTACT: Matthew Cook, Designated Federal Officer, Office of Economic Policy, Department of the Treasury, at SIPPRA@treasury.gov or 202-622-2000.

SUPPLEMENTARY INFORMATION: On February 9, 2018, the President signed the Bipartisan Budget Act of 2018, establishing the Commission under the Social Impact Partnerships to Pay for Results Act. The Commission's duties include making recommendations to the Secretary of the Treasury regarding awards of social impact partnership project grants and feasibility study grants. In accordance with section 10(a) of the Federal Advisory Committee Act, 5 U.S.C. 1001 et seq., and the regulations thereunder, Matthew Cook, Designated Federal Officer of the Commission, has ordered publication of this notice that the Commission will convene its next meeting on August 21, 2024 from 3:00 p.m.-4:00 p.m. Eastern Time. During this meeting, the Commission will discuss applications submitted to Treasury in response to the SIPPRA Notice of Funding Availability that Treasury published in the Federal Register on November 30, 2023. Treasury expects to make all documents discussed by the Commission available for public inspection and photocopying in Treasury's library in advance of the meeting. Treasury expects the Commission to make funding recommendations to Treasury at this meeting.

Eric Van Nostrand,
P.D.O. Assistant Secretary for Economic Policy Department of the Treasury.

[FR Doc. 2024-17355 Filed 8-5-24; 8:45 am]

BILLING CODE 4810-AK-P